DEPARTMENT OF THE INTERIOR

Bureau of Land Management

[LLNVS00560.L71220000.FR0000.LVTFF1000770, 241A; N-57230; 11-08807; MO# 4500018891; TAS:14X5232]

Notice of Realty Action: Conveyance of Public Lands for Airport Purposes in Clark County, NV

AGENCY: Bureau of Land Management, Interior.

ACTION: Notice of Realty Action.

SUMMARY: The Bureau of Land Management (BLM) has examined and found 160 acres of public land in the City of Henderson, Clark County, Nevada, as suitable for conveyance for airport purposes under the authority of Section 516 of the Airport and Airway Improvement Act of 1982.

DATES: Interested parties may submit written comments regarding the proposed conveyance of the lands until April 15, 2011. The requested lands will not be conveyed for at least 60 days after the date of the publication of this notice in the Federal Register.

ADDRESSES: Mail written comments to the BLM Field Manager, Las Vegas Field Office, 4701 N. Torrey Pines Drive, Las Vegas, NV 89130-2301.

FOR FURTHER INFORMATION CONTACT: Philip Rhinehart, (702) 515-5182, or prhineha@blm.gov.

SUPPLEMENTARY INFORMATION: The Clark County Department of Aviation has requested the conveyance of 160 acres of public land for a fully operational airport known as the Henderson Executive Airport. The lands are legally described as:

Mount Diablo Meridian

T. 23 S. R. 61 E.

Sec. 10, S½SE¼NE¼ NE¼, S½NE¼SE¼NE¼, SE¼SE¼NE¼, SW¼SE¼NE¼, N½NE¼NE¼SE¼, NW¼NE¼SE¼, N½SE¼NE¼SE¼;

Sec. 11, W½NW¼, NW¼;NW¼;SW¼, NE¼;NW¼;SW¼, N½;SW¼;NW¼;SW¼, N½;SE¼NW¼SW¼.

The area described contains 160 acres, more or less, in Clark County.

The Clark County Department of Aviation currently holds an airport lease for 140 acres of the 160 acres found suitable for conveyance. The 140-acre lease will be terminated prior to the proposed conveyance. As part of the processing of the lease action on August 20, 1999, a Notice of Realty Action was published in the Federal Register (64 FR 161: 45562), noticing that certain public lands in Clark County, Nevada, had been examined and found suitable for public airport lease purposes under the provisions of the Airport and Airway Improvement Act of 1982, as amended (49 U.S.C., Appendix 211-213). The additional 20 acres requested for conveyance are needed for the continued operations of the Henderson Executive Airport. The additional 20 acres have been found suitable for conveyance for airport purposes but are not currently under lease to Clark County. The lands identified for conveyance are segregated from mineral entry under the Southern Nevada Public Lands Management Act of 1998 (Pub. L. 105-263). Conveyance of the subject lands is consistent with the BLM, Las Vegas Resource Management Plan dated October 5, 1998, and would be in the public interest. Under regulations found at 49 U.S.C. Section 47125, Clark County is entitled to a fee simple, no cost conveyance of the subject property.

Conveyance of the land is consistent with applicable Federal and county land use plans and will help meet the needs of the community. The conveyance will enhance safety, capacity, security and environmental protection at the Henderson Executive Airport. The land is not required for any other Federal purposes.

Additional detailed information pertaining to this request for conveyance, plan of development, and site plan is contained in case file N-57230, which is located in the BLM Las Vegas Field Office at the above address.

Conveyance of the public land shall be subject to limitations prescribed by law and regulation and prior to patent issuance, a holder of any right-of-way within the conveyance area may be given the opportunity to amend the right-of-way for conversion to a new term, including perpetuity, if applicable.

The patent, when issued, will be subject to the provisions of the Airport and Airways Improvement Act of 1982 and applicable regulations of the Secretary of the Interior, and will contain the following rights, reservations, covenants, terms and conditions to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

Conveyance of the public land will be subject to:

1. Valid existing rights.

2. A right-of-way for a road, drainage, and municipal utilities (water and sewer) granted to the City of Henderson, Nevada, its successors or assigns, by right-of-way N-62099, pursuant to the Act of October 21, 1976 (43 U.S.C. 1761).

3. A right-of-way to construct, operate, maintain, and terminate an underground water pipeline, a pressure reducing valve station, and maintenance area to the City of Henderson, Nevada, its successors or assigns, by right-of-way N-63254, pursuant to the Act of October 21, 1976 (43 U.S.C. 1761).

4. A right-of-way to improve, construct, operate, maintain and terminate roads, municipal utilities (water and sewer) and drainage purposes to the City of Henderson, Nevada, its successors or assigns, by right-of-way N-77148, pursuant to the Act of October 21, 1976 (43 U.S.C. 1761).

5. A right-of-way for underground 4 inch, 6 inch, and 8 inch diameter polyethylene natural gas pipelines with appurtenances granted to Southwest Gas Corporation, its successors or assigns, by right-of-way N-82996, pursuant to the Act of February 25, 1920 (30 U.S.C. 185).

6. An appropriate indemnification clause protecting the United States from claims out of lessee's/patentee's use, occupancy, or operations on the leased/patented premises.

7. In accordance with Section 120(h) of the Comprehensive Environmental Response, Compensation, and Liability Act, the land described was examined on January 10, 2011, and shows no evidence indicating that hazardous substances had been stored for 1 year or more, nor have any hazardous substances been disposed of or released on the subject property.

Conveyance of the public land will contain the following Covenants:

1. That the grantee will use the property interest for airport purposes, and will develop that interest for airport purposes within one to five years after the date of this conveyance. Except that if the property interest is necessary to meet future development of an airport in accordance with National Plan of Integrated Airports System, the grantee will develop that interest for airport purposes on or before the period provided in the plan or within a period satisfactory to the Administrator of the Federal Aviation Administration and any interim use of that interest for other than airport purposes will be subject to such terms and conditions as the Administrator may prescribe.

2. That the airport runway system and its appurtenant safety areas, and all buildings and facilities, will be operated for public airport purposes on fair and reasonable terms without unjust economic discrimination; or on the basis of race, color, or national origin, as to airport employment practices, and as to accommodations, services, facilities, or other public uses of the airport.

3. That the grantee will not grant or permit any exclusive right forbidden by Section 308(a) of the Federal Aviation Act of 1958 (49 U.S.C. 1349 9(a), as amended), at the airport or at any other airport now owned or controlled by it.

4. Agrees that no person shall be excluded from any participation, be denied any benefits, or be otherwise subjected to any discrimination on the grounds of race, color, national origin, or disability.

5. Agrees to comply with all requirements imposed by or pursuant to Part 21 of the Regulations of the Office of the Secretary of Transportation (49 CFR 21)—nondiscrimination in federally assisted programs of the Department of Transportation—effectuation of Title VI of the Civil Rights Act of 1964.

6. That in furtherance of the policy of the Federal Aviation Administration under covenant, the grantee:

(a) Agrees that, unless authorized by the Administrator, it will not, either directly or indirectly, grant or permit any person, firm or corporation the exclusive right at the airport, or at any other airport now owned or controlled by it, to conduct any aeronautical activities, including, but not limited to, charter flights, pilot training, aircraft rental and sightseeing, aerial photography, crop dusting, aerial advertising and surveying, air carrier operations, aircraft sales and services, sale of aviation petroleum products whether or not conducted in conjunction with other activities which because of their direct relationship to the operation of aircraft can be regarded as an aeronautical activity.

(b) Agrees that it will terminate any existing exclusive right to engage in the sale of gasoline or oil, or both, granted before July 17, 1962, at such an airport, at the earliest renewal, cancellation, or expiration date applicable to the agreement that established the exclusive right.

(c) Agrees that it will terminate forthwith any other exclusive right to conduct any aeronautical activity now existing at such an airport.

7. That any later transfer of the property interest conveyed will be subject to the covenants and conditions in the instrument of conveyance.

8. That, if the covenant to develop the property interest (or any part thereof) for airport purposes within one year after the date of this conveyance is breached, or if the property interest (or any part thereof) is not used in a manner consistent with terms of the conveyance, then the Administrator may give notice to the patentee requiring Clark County, Nevada, to take specified action towards development within a fixed period. These notices may be issued repeatedly, and outstanding notices may be amended or supplemented. Upon expiration of a period so fixed without completion by the grantee of the required action, the Administrator may, on behalf of the United States, enter, and take title to, the property interest conveyed or the particular part of the interest to which the breach relates.

9. That, if any covenant or condition in the instrument of conveyance, other than the covenant contained in paragraph 7 of this section, is breached, the Administrator may, on behalf of the United States, immediately enter, and take title to, the property interest conveyed or, in his discretion, that part of that interest to which the breach relates.

10. That a determination by the Administrator that one of the foregoing covenants has been breached is conclusive of the facts, and that, if the right entry and possession of title stipulated in the forgoing covenants is exercised, the grantee will, upon demand of the Administrator, take any action (including prosecution of suit or executing of instruments) that may be necessary to evidence transfer to the United States of title to the property interest conveyed, or in the Administrator's discretion, to that part interest to which the breach relates.

Upon publication of this notice in the Federal Register, the land described will be segregated from all other forms of appropriation under the public land laws, including the general mining laws, but not conveyance under the Airport and Airway Improvement Act of 1982.

Interested parties may submit written comments regarding the specific use proposed in the application and plan of development, whether the BLM followed proper administrative procedures in reaching the decision to convey under the Airport and Airway Improvement Act of 1982, or any other factor not directly related to the suitability of the land for airport use.

Before including your address, phone number, e-mail address, or other personal identifying information in your comment, you should be aware that your entire comment—including your personal identifying information—may be made publicly available at any time. While you can ask us in your comment to withhold your personal identifying information from public review, we cannot guarantee that we will be able to do so. Only written comments submitted to the Field Manager, BLM Las Vegas Field Office, will be considered properly filed.

Any adverse comments will be reviewed by the BLM Nevada State Director, who may sustain, vacate, or modify the realty action. In the absence of any adverse comments, this realty action will become the final determination of the Department of the Interior. In the absence of any adverse comments, the decision will become effective on May 2, 2011. The lands will not be available for conveyance until after the decision becomes effective.

Authority: 43 CFR 2911.0-1.

Vanessa Hice,
Assistant Field Manager, Division of Lands.

[FR Doc. 2011-4536 Filed 2-28-11; 8:45 am]

BILLING CODE 4310-HC-P